DEPARTMENT OF TRANSPORTATION

Federal Aviation Administration

14 CFR Part 39

[Docket No. 2002-NM-352-AD]

RIN 2120-AA64

Airworthiness Directives; Empresa Brasileira de Aeronautica S.A. (EMBRAER) Model EMB-135 and -145 Series Airplanes

AGENCY: Federal Aviation Administration, DOT.

ACTION: Proposed rule; withdrawal.

SUMMARY: This action withdraws a notice of proposed rulemaking (NPRM) that proposed a new airworthiness directive (AD), applicable to certain Empresa Brasileira de Aeronautica S.A. (EMBRAER) Model EMB-135 and -145 series airplanes. That action would have required replacement of the air turbine starters (ATSs) with modified ATSs. Since the issuance of the NPRM, we have reviewed the requirements of the proposed AD and determined that the same unsafe condition is addressed in another AD. Accordingly, this proposed AD is withdrawn.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to add a new airworthiness directive (AD), applicable to certain EMBRAER Model EMB-135 and -145 series airplanes, was published in the Federal Register as a Notice of Proposed Rulemaking (NPRM) on December 18, 2003 (68 FR 70475). The proposed rule would have required replacement of the air turbine starters (ATSs) with modified ATSs. That action was prompted by notification from the Departmento de Aviacao Civil (DAC), which is the airworthiness authority for Brazil, of an unsafe condition. The DAC advised it had received reports of interference problems between the engine ATSs' output shafts and the engine accessory gear box (AGB) shafts. The proposed actions were intended to prevent a sheared ATS output shaft from allowing oil to flow down the engine AGB shafts and dripping into the engine compartments, and consequent oil fire, in-flight shutdown, and/or rejected take-off.

Actions That Occurred Since the NPRM Was Issued

Since we issued the NPRM, we have determined that the DAC issued two Brazilian airworthiness directives that address that same unsafe condition. The DAC issued Brazilian airworthiness directives 2001-09-04, dated October 10, 2001, and 2003-07-01R1, dated December 23, 2003. We issued a parallel proposed AD for each Brazilian airworthiness directive. One proposed AD, Docket Number 2002-NM-352-AD, was published in the Federal Register on December 18, 2003 (68 FR 70475). The other proposed AD, Docket Number 2003-NM-237-AD, was published in the Federal Register on February 19, 2004 (69 FR 7707). The final rule for Docket Number 2003-NM-237-AD was published in the Federal Register on February 17, 2005 (70 FR 8028) as AD 2005-04-05.

FAA's Conclusions

Upon further evaluation, and based on comments received in response to the proposed AD with Docket Number 2002-NM-352-AD, we determined that it was in the best interest of the FAA and the U.S. operators to combine the requirements of both of our proposed ADs into the final rule for Docket Number 2003-NM-237-AD, AD 2005-04-05. The requirements in AD 2005-04-05 adequately address the identified unsafe condition specified in the proposed AD, Docket Number 2002-NM-352-AD. Accordingly, the proposed AD with Docket Number 2002-NM-352-AD is withdrawn. The DAC and the airplane manufacturer support our decision.

Withdrawal of the NPRM does not preclude the FAA from issuing another related action or commit the FAA to any course of action in the future.

Regulatory Impact

Since this action only withdraws a notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket Number 2002-NM-352-AD, which was published in the Federal Register on December 18, 2003 (68 FR 70475).

Issued in Renton, Washington, on April 11, 2005.
Ali Bahrami,
Manager, Transport Airplane Directorate, Aircraft Certification Service.

[FR Doc. 05-7672 Filed 4-15-05; 8:45 am]

BILLING CODE 4910-13-P